ENVIRONMENTAL PROTECTION AGENCY

[FRL OP-OFA-146]

Environmental Impact Statements; Notice of Availability

Responsible Agency: Office of Federal Activities, General Information 202-564-5632 or https://www.epa.gov/nepa.

Weekly receipt of Environmental Impact Statements (EIS)

Filed September 23, 2024 10 a.m. EST Through September 30, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240175, Draft, NRC, NAT, Generic Environmental Impact Statement for Licensing of New Nuclear Reactors, Comment Period Ends: 12/18/2024, Contact: Stacey Imboden 301-415-2462.

EIS No. 20240176, Final, NOAA, WA, Expenditure of Funds to Increase Prey Availability for Southern Resident Killer Whales, Review Period Ends: 11/04/2024, Contact: Lance Kruzic 541-802-3728.

EIS No. 20240177, Final, NMFS, AK, Issuance of an Incidental Take Statement under the Endangered Species Act for Salmon Fisheries in Southeast Alaska Subject to the Pacific Salmon Treaty and Funding to the State of Alaska to Implement the Pacific Salmon Treaty, Review Period Ends: 11/04/2024, Contact: Gretchen Harrington 907-586-7228.

EIS No. 20240178, Final, BLM, NV, Robertson Mine Project, Review Period Ends: 11/04/2024, Contact: Jeffrey Kirkwood 775-635-4164.

EIS No. 20240179, Final, BLM, USFS, UT, Bears Ears National Monument Proposed Resource Management Plan, Review Period Ends: 11/04/2024, Contact: Jill Stephenson 435-259-2141.

EIS No. 20240180, Final, FTA, NY, Port Authority Bus Terminal Replacement Project, Review Period Ends: 11/04/2024, Contact: Ky Woltering 212-668-2558.

Dated: September 30, 2024.
Timothy Witman,
Acting Director, NEPA Compliance Division, Office of Federal Activities.

[FR Doc. 2024-22955 Filed 10-3-24; 8:45 am]

BILLING CODE 6560-50-P